DEPARTMENT OF TRANSPORTATION

Federal Aviation Administration

14 CFR Part 95

[Docket No. 31372; Amdt. No. 559]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, June 17, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95 Airspace, Navigation (air).

Issued in Washington, DC, on May 19, 2021.
Thomas J. Nichols,
Aviation Safety, Manager, Flight Procedures & Airspace Group, Flight Technologies and Procedures Division.

Adoption of the Amendment

Accordingly, pursuant to the authority delegated to me by the Administrator, part 95 of the Federal Aviation Regulations (14 CFR part 95) is amended as follows effective at 0901 UTC, June 17, 2021.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 559 effective date June 17, 2021]
From | To | MEA | MAA
§ 95.3000 Low Altitude RNAV Routes
§ 95.3295 RNAV Route T295 Is Amended by Adding
BANGOR, ME VORTAC | LAUDS, ME WP | 2800 | 17500
LAUDS, ME WP | HULTN, ME WP | 2500 | 17500
HULTN, ME WP | PRESQUE ISLE, ME VOR/DME | 3000 | 17500
Is Amended to Read in Part
SASHA, MA FIX | KEYNN, NH WP | 4200 | 17500
KEYNN, NH WP | CONCORD, NH VOR/DME | 5000 | 17500
§ 95.3312 RNAV Route T312 Is Added to Read
HILL CITY, KS VORTAC | MOZEE, KS WP | 4400 | 17500
MOZEE, KS WP | HUTCHINSON, KS VOR/DME | 3800 | 17500
HUTCHINSON, KS VOR/DME | DROOP, MO FIX | 3500 | 17500
DROOP, MO FIX | DOGWOOD, MO VORTAC | 3300 | 17500
DOGWOOD, MO VORTAC | FARMINGTON, MO VORTAC | 3400 | 17500
FARMINGTON, MO VORTAC | JEDPA, IL WP | 2900 | 17500
JEDPA, IL WP | POCKET CITY, IN VORTAC | 2300 | 17500
§ 95.3314 RNAV Route T314 Is Added to Read
BARNES, MA VORTAC | FAIDS, MA FIX | 2900 | 17500
FAIDS, MA FIX | PUDGY, MA FIX | 2800 | 17500
PUDGY, MA FIX | GARDNER, MA VOR/DME | 3000 | 17500
GARDNER, MA VOR/DME | JOHNZ, NH FIX | 3500 | 17500
JOHNZ, NH FIX | MANCH, NH WP | *2600 | 17500
*2100—MOCA
MANCH, NH WP | KHRIS, NH FIX | 2300 | 17500
KHRIS, NH FIX | RAYMY, NH FIX | *2600 | 17500
*2100—MOCA
RAYMY, NH FIX | YUKES, NH WP | 2300 | 17500
YUKES, NH WP | KENNEBUNK, ME VOR/DME | 2600 | 17500
§ 95.3315 RNAV Route T315 Is Added to Read
HARTFORD, CT VOR/DME | DVANY, CT FIX | 2700 | 17500
DVANY, CT FIX | DARTH, CT WP | 2700 | 17500
DARTH, CT WP | WITNY, MA FIX | *3000 | 17500
*2500—MOCA
WITNY, MA FIX | SPENO, MA FIX | 2900 | 17500
SPENO, MA FIX | GARDNER, MA VOR/DME | 3000 | 17500
GARDNER, MA VOR/DME | KEYNN, NH WP | *3600 | 17500
*3900—MCA KEYNN, NH WP, N BND
KEYNN, NH WP | JAMMA, VT WP | 4400 | 17500
JAMMA, VT WP | EBERT, VT WP | *5600 | 17500
*6100—MCA EBERT, VT WP, N BND
EBERT, VT WP | MUDDI, VT FIX | 6400 | 17500
MUDDI, VT FIX | BURLINGTON, VT VOR/DME | 6000 | 17500
§ 95.3316 RNAV Route T316 Is Added to Read
LAMMS, NY WP | ROOMS, NY WP | *3900 | 17500
*3900—MCA ROOMS, NY WP, W BND
ROOMS, NY WP | PAYGE, NY WP | 3500 | 17500
PAYGE, NY WP | GALWA, NY FIX | 2900 | 17500
GALWA, NY FIX | ETZUN, NY WP | 3000 | 17500
ETZUN, NY WP | CAMBRIDGE, NY VOR/DME | *3300 | 17500
*5000—MCA CAMBRIDGE, NY VOR/DME, E BND
CAMBRIDGE, NY VOR/DME | DORIS, VT FIX | 6000 | 17500
DORIS, VT FIX | BRATS, VT WP | *6000 | 17500
*4700—MCA BRATS, VT WP, W BND
BRATS, VT WP | STRUM, NH WP | 4100 | 17500
STRUM, NH WP | DUBIN, NH WP | *4800 | 17500
*4400—MCA DUBIN, NH WP, W BND
DUBIN, NH WP | *MUGGY, NH FIX | **4000 | 17500
*3100—MCA MUGGY, NH FIX, W BND
**3500—MOCA
MUGGY, NH FIX | BASUU, NH FIX | *3000 | 17500
BASUU, NH FIX | MANCH, NH WP | *2600 | 17500
§ 95.3391 RNAV Route T391 Is Amended by Adding
HANCOCK, NY VOR/DME | OXFOR, NY WP | 4000 | 17500
OXFOR, NY WP | PITCH, NY WP | 3700 | 17500
PITCH, NY WP | GTOWN, NY WP | 3800 | 17500
GTOWN, NY WP | POMPY, NY WP | 3800 | 17500
POMPY, NY WP | FATUP, NY WP | *3600 | 17500
*3100—MCA FATUP, NY WP, SE BND
FATUP, NY WP | SYRACUSE, NY VORTAC | 2900 | 17500
Is Amended to Delete
TUMPS, NY FIX | SYRACUSE, NY VORTAC | 3400 | 17500
§ 95.3608 RNAV Route T608 Is Amended to Delete
WOZEE, NY WP | U.S. CANADIAN BORDER | *3000 | 17500
*2500—MOCA
U.S. CANADIAN BORDER | HOCKE, MI WP | *3500 | 17500
*2900—MOCA
Is Added to Read
HOCKE, MI WP | U.S. CANADIAN BORDER | *3500 | 17500
*2500—MOCA
U.S. CANADIAN BORDER | WOZEE, NY WP | 2400 | 17500
WOZEE, NY WP | CLUNG, NY FIX | 2700 | 17500
CLUNG, NY FIX | ROCHESTER, NY VOR/DME | 2500 | 17500
ROCHESTER, NY VOR/DME | LORTH, NY FIX | 2500 | 17500
LORTH, NY FIX | SYRACUSE, NY VORTAC | 2400 | 17500
SYRACUSE, NY VORTAC | STODA, NY FIX | 2300 | 17500
STODA, NY FIX | VASTS, NY WP | 3000 | 17500
VASTS, NY WP | LAMMS, NY WP | 3400 | 17500
LAMMS, NY WP | NORSE, NY WP | 3500 | 17500
NORSE, NY WP | MARIA, NY FIX | 3400 | 17500
MARIA, NY FIX | ALBANY, NY VORTAC | 3000 | 17500
ALBANY, NY VORTAC | WARUV, NY WP | *3100 | 17500
*3700—MCA WARUV, NY WP, E BND
WARUV, NY WP | GRAVE, NY WP | *4100 | 17500
*4400—MCA GRAVE, NY WP, SE BND
GRAVE, NY WP | GRISY, MA WP | 5300 | 17500
GRISY, MA WP | WARIC, MA WP | 4700 | 17500
WARIC, MA WP | HURLY, MA WP | 3300 | 17500
HURLY, MA WP | GARDNER, MA VOR/DME | 3000 | 17500
GARDNER, MA VOR/DME | GRAYM, MA FIX | 3000 | 17500
GRAYM, MA FIX | BLATT, CT FIX | 2800 | 17500
BLATT, CT FIX | MOGUL, CT FIX | 2500 | 17500
MOGUL, CT FIX | YANTC, CT WP | 2300 | 17500
§ 95.3634 RNAV Route T634 Is Added to Read
SYRACUSE, NY VORTAC | PAGER, NY FIX | 2300 | 17500
PAGER, NY FIX | BRUIN, NY WP | 2600 | 17500
BRUIN, NY WP | WATERTOWN, NY VORTAC | 2600 | 17500
WATERTOWN, NY VORTAC | U.S. CANADIAN BORDER | 2000 | 17500
§ 95.3662 RNAV Route T662 Is Added to Read
U.S. CANADIAN BORDER | KATAH, ME WP | *7000 | 17500
*4600—MOCA
KATAH, ME WP | HULTN, ME WP | 5800 | 17500
§ 95.3698 RNAV Route T698 Is Added to Read
U.S. CANADIAN BORDER | HULTN, ME WP | 7600 | 17500
HULTN, ME WP | U.S. CANADIAN BORDER | 2500 | 17500
§ 95.3705 RNAV Route T705 Is Amended by Adding
DANZI, NY WP | CODDI, NY FIX | 4400 | 17500
CODDI, NY FIX | MILID, NY FIX | 4000 | 17500
MILID, NY FIX | LAMMS, NY WP | 3800 | 17500
LAMMS, NY WP | USICI, NY FIX | 3400 | 17500
FOSYU, NY WP | SRNAC, NY WP | 5400 | 17500
SRNAC, NY WP | UUBER, NY WP | 5100 | 17500
UUBER, NY WP | RIGID, NY WP | *5400 | 17500
*4800—MCA RIGID, NY WP, W BND
Is Amended to Delete
UTICA, NY VORTAC | USICI, NY FIX | 3900 | 17500
FOSYU, NY WP | SARANAC LAKE, NY VOR/DME | 5400 | 17500
SARANAC LAKE, NY VOR/DME | RIGID, NY WP | 5400 | 17500
Is Amended to Read in Part
RIGID, NY WP | PBERG, NY WP | 3800 | 17500
PBERG, NY WP | LATTS, NY WP | 3200 | 17500
LATTS, NY WP | U.S. CANADIAN BORDER | 2900 | 17500
§ 95.3781 RNAV Route T781 Is Amended by Adding
U.S. CANADIAN BORDER | HULTN, ME WP | *7000 | 17500
*4000—MOCA
§ 95.4000 High Altitude RNAV Routes
§ 95.4067 RNAV Route Q67 Is Amended to Read in Part
SMTTH, TN WP | TONIO, KY FIX | *18000 | 45000
*18000—GNSS MEA
*DME/DME/IRU MEA
TONIO, KY FIX | HENDERSON, WV VORTAC | *18000 | 45000
*18000—GNSS MEA
*DME/DME/IRU MEA
Is Amended to Delete
TONIO, KY FIX | DARYN, WV WP | *18000 | 45000
*18000—GNSS MEA
*DME/DME/IRU MEA
§ 95.4176 RNAV Route Q176 Is Added to Read
CIMARRON, NM VORTAC | KENTO, NM FIX | *22000 | 45000
*18000—GNSS MEA
*DME/DME/IRU MEA
KENTO, NM FIX | LIBERAL, KS VORTAC | *22000 | 45000
*18000—GNSS MEA
*DME/DME/IRU MEA
LIBERAL, KS VORTAC | WICHITA, KS VORTAC | *18000 | 45000
*18000—GNSS MEA
*DME/DME/IRU MEA
WICHITA, KS VORTAC | BUTLER, MO VORTAC | *18000 | 45000
*18000—GNSS MEA
*DME/DME/IRU MEA
BUTLER, MO VORTAC | ST LOUIS, MO VORTAC | *18000 | 45000
*18000—GNSS MEA
*DME/DME/IRU MEA
ST LOUIS, MO VORTAC | GBEES, IN WP | *18000 | 45000
*18000—GNSS MEA
*DME/DME/IRU MEA
GBEES, IN WP | BICKS, KY WP | *18000 | 45000
*18000—GNSS MEA
*DME/DME/IRU MEA
BICKS, KY WP | HENDERSON, WV VORTAC | *18000 | 45000
*18000—GNSS MEA
*DME/DME/IRU MEA
HENDERSON, WV VORTAC | OTTTO, VA WP | *18000 | 45000
*18000—GNSS MEA
*DME/DME/IRU MEA
§ 95.4806 RNAV Route Q806 Is Amended to Read in Part
U.S. CANADIAN BORDER | MILLINOCKET, ME VOR/DME | *18000 | 45000
*18000—GNSS MEA
*DME/DME/IRU MEA
MILLINOCKET, ME VOR/DME | CANME, ME WP | *18000 | 45000
*18000—GNSS MEA
*DME/DME/IRU MEA
CANME, ME WP | U.S. CANADIAN BORDER | *18000 | 45000
*18000—GNSS MEA
*DME/DME/IRU MEA
§ 95.4864 RNAV Route Q864 Is Added to Read
U.S. CANADIAN BORDER | U.S. CANADIAN BORDER | *18000 | 45000
*GNSS REQUIRED

From | To | MEA
§ 95.6001 VICTOR Routes—U.S.
§ 95.6002 VOR Federal Airway V2 Is Amended to Delete
BUFFALO, NY VOR/DME | ROCHESTER, NY VOR/DME | 2800
ROCHESTER, NY VOR/DME | MAGEN, NY WP | 2300
MAGEN, NY WP | KONDO, NY WP | 2300
KONDO, NY WP | *WIFFY, NY FIX | 2300
*3000—MRA
WIFFY, NY FIX | SYRACUSE, NY VORTAC | 2300
SYRACUSE, NY VORTAC | STODA, NY FIX | 2400
STODA, NY FIX | VASTS, NY WP | 3000
VASTS, NY WP | UTICA, NY VORTAC | 3400
UTICA, NY VORTAC | MARIA, NY FIX | 3500
MARIA, NY FIX | ALBANY, NY VORTAC | 3000
ALBANY, NY VORTAC | WARIC, MA WP | 5000
WARIC, MA WP | GARDNER, MA VOR/DME | *4000
*3500—MOCA
§ 95.6003 VOR Federal Airway V3 Is Amended to Delete
BOSTON, MA VOR/DME | PEASE, NH VOR/DME | 3000
PEASE, NH VOR/DME | YUKES, NH WP | *3500
*2400—MOCA
YUKES, NH WP | *PARSO, ME FIX | **3500
*7000—MCA PARSO, ME FIX, N BND
**2800—MOCA
PARSO, ME FIX | LABEL, ME WP.
| S BND | 3500
| N BND | 7000
LABEL, ME WP | AUGUSTA, ME VOR/DME | *7000
*3600—MOCA
*3600—GNSS MEA
AUGUSTA, ME VOR/DME | BANGOR, ME VORTAC | 3000
BANGOR, ME VORTAC | HOULTON, ME VOR/DME | *2800
*2300—MOCA
HOULTON, ME VOR/DME | PRESQUE ISLE, ME VOR/DME | *3400
*2700—MOCA
§ 95.6011 VOR Federal Airway V11 Is Amended to Read in Part
FORT WAYNE, IN VORTAC | *GRABI, IN FIX | 3000
*4500—MRA
GRABI, IN FIX | EDGEE, OH FIX | *3000
*2400—MOCA
§ 95.6014 VOR Federal Airway V14 Is Amended to Delete
BUFFALO, NY VOR/DME | GENESEO, NY VOR/DME | 4000
GENESEO, NY VOR/DME | BEEPS, NY FIX | *4000
*3300—MOCA
BEEPS, NY FIX | SCIPO, NY FIX | *4000
*3400—MOCA
SCIPO, NY FIX | VESPE, NY FIX | 4000
VESPE, NY FIX | GEORGETOWN, NY VORTAC | 4000
GEORGETOWN, NY VORTAC | SHERB, NY FIX | 4000
SHERB, NY FIX | COBIA, NY FIX | 5000
COBIA, NY FIX | CASIL, NY WP | *5000
*3800—MOCA
CASIL, NY WP | ALBANY, NY VORTAC | 3600
ALBANY, NY VORTAC | WARIC, MA WP | 5000
WARIC, MA WP | GARDNER, MA VOR/DME | *4000
*3500—MOCA
GARDNER, MA VOR/DME | GRAYM, MA FIX | 3000
GRAYM, MA FIX | NORWICH, CT VOR/DME | *3000
*2200—MOCA
§ 95.6029 VOR Federal Airway V29 Is Amended to Delete
SYRACUSE, NY VORTAC | PAGER, NY FIX | *2400
*1800—MOCA
PAGER, NY FIX | WATERTOWN, NY VORTAC | *2600
*2000—MOCA
WATERTOWN, NY VORTAC | *LETUS, NY FIX | **3000
*4000—MRA
**1900—MOCA
LETUS, NY FIX | MASSENA, NY VORTAC | *3000
*GNSS MEA
§ 95.6045 VOR Federal Airway V45 Is Amended to Delete
CHARLESTON, WV VOR/DME | HENDERSON, WV VORTAC | 3100
HENDERSON, WV VORTAC | *BREMN, OH FIX | **10000
*10000—MCA BREMN, OH FIX, S BND
**3000—GNSS MEA
BREMN, OH FIX | APPLETON, OH VORTAC | 3000
§ 95.6067 VOR Federal Airway V67 Is Amended to Delete
CUNNINGHAM, KY VOR/DME | MARION, IL VOR/DME | 2600
MARION, IL VOR/DME | CENTRALIA, IL VORTAC | 2300
CENTRALIA, IL VORTAC | VANDALIA, IL VOR/DME | 2500
Is Amended by Adding
CORKI, IL FIX | VANDALIA, IL VOR/DME | 2500
§ 95.6072 VOR Federal Airway V72 Is Amended to Read in Part
FARMINGTON, MO VORTAC | CENTRALIA, IL VORTAC | *3000
*2500—MOCA
§ 95.6106 VOR Federal Airway V106 Is Amended to Delete
BARNES, MA VORTAC | GARDNER, MA VOR/DME | *3500
*3000—MOCA
GARDNER, MA VOR/DME | MANCHESTER, NH VOR/DME | 4000
MANCHESTER, NH VOR/DME | RAYMY, NH FIX | *2600
*2100—MOCA
RAYMY, NH FIX | KENNEBUNK, ME VOR/DME | *5500
*2200—MOCA
*3000—GNSS MEA
§ 95.6119 VOR Federal Airway V119 Is Amended to Delete
HENDERSON, WV VORTAC | JACEE, WV FIX | 2700
JACEE, WV FIX | PARKERSBURG, WV VOR/DME | 2700
§ 95.6125 VOR Federal Airway V125 Is Amended to Delete
NIKEL, IL FIX | BURCK, IL WP | 4500
BURCK, IL WP | ST LOUIS, MO VORTAC | *3500
*2600—MOCA
§ 95.6128 VOR Federal Airway V128 Is Amended to Read in Part
CROUP, OH FIX | RULEY, WV FIX.
| NW BND | 3600
| SE BND | 3300
§ 95.6130 VOR Federal Airway V130 Is Amended to Read in Part
MINNK, RI FIX | MARTHAS VINEYARD, MA VOR/DME | *3000
*1600—MOCA
§ 95.6145 VOR Federal Airway V145 Is Amended to Delete
UTICA, NY VORTAC | WEEPY, NY WP | 3400
WEEPY, NY WP | FLOOR, NY WP | *3000
*2200—MOCA
FLOOR, NY WP | WATERTOWN, NY VORTAC | 3000
WATERTOWN, NY VORTAC | U.S. CANADIAN BORDER | *3000
*1800—MOCA
§ 95.6167 VOR Federal Airway V167 Is Amended to Read in Part
PEAKE, MA FIX | MARCONI, MA VOR/DME | *3000
*1600—MOCA
§ 95.6174 VOR Federal Airway V174 Is Amended to Delete
YORK, KY VORTAC | HENDERSON, WV VORTAC | 3300
HENDERSON, WV VORTAC | GAYED, WV WP | *4000
*2700—MOCA
GAYED, WV WP | CARLA, WV FIX | 5500
CARLA, WV FIX | ELKINS, WV VORTAC | 5500
§ 95.6190 VOR Federal Airway V190 Is Amended to Delete
FARMINGTON, MO VORTAC | MARION, IL VOR/DME | 3000
MARION, IL VOR/DME | POCKET CITY, IN VORTAC | *5000
*2000—MOCA
*2300—GNSS MEA
§ 95.6196 VOR Federal Airway V196 Is Amended to Delete
UTICA, NY VORTAC | *SARANAC LAKE, NY VOR/DME | 5400
*6500—MCA SARANAC LAKE, NY VOR/DME, E BND
SARANAC LAKE, NY VOR/DME | RIGID, NY WP.
| E BND | 9000
| W BND | 500
§ 95.6203 VOR Federal Airway V203 Is Amended to Delete
STELA, MA FIX | ALBANY, NY VORTAC | *6000
*4000—GNSS MEA
ALBANY, NY VORTAC | OTOLE, NY WP | *6000
*2200—MOCA
*3000—GNSS MEA
OTOLE, NY WP | DINNY, NY WP | *10000
*6900—MOCA
*7000—GNSS MEA
DINNY, NY WP | SARANAC LAKE, NY VOR/DME | 7000
SARANAC LAKE, NY VOR/DME | MASSENA, NY VORTAC | *10000
*5100—MOCA
*6000—GNSS MEA
§ 95.6229 VOR Federal Airway V229 Is Amended to Delete
HARTFORD, CT VOR/DME | GARDNER, MA VOR/DME | 3000
GARDNER, MA VOR/DME | KEENE, NH VORTAC | 3600
KEENE, NH VORTAC | JAMMA, VT WP | 4500
JAMMA, VT WP | MUDDI, VT FIX | 6400
MUDDI, VT FIX | *BURLINGTON, VT VOR/DME | 6000
*3100—MCA BURLINGTON, VT VOR/DME, SE BND
§ 95.6249 VOR Federal Airway V249 Is Amended to Delete
DELANCEY, NY VOR/DME | MILID, NY FIX | 4300
MILID, NY FIX | UTICA, NY VORTAC | 3700
§ 95.6273 VOR Federal Airway V273 Is Amended to Delete
HANCOCK, NY VOR/DME | GEORGETOWN, NY VORTAC | 4000
GEORGETOWN, NY VORTAC | SYRACUSE, NY VORTAC | 4000
§ 95.6282 VOR Federal Airway V282 Is Amended to Delete
SARANAC LAKE, NY VOR/DME | *FAWNS, NY FIX | 5000
*5000—MCA FAWNS, NY FIX, S BND
FAWNS, NY FIX | U.S. CANADIAN BORDER | 5000
§ 95.6318 VOR Federal Airway V318 Is Amended to Delete
U.S. CANADIAN BORDER | HOULTON, ME VOR/DME | *9000
*3900—MOCA
HOULTON, ME VOR/DME | U.S. CANADIAN BORDER | 1900
§ 95.6322 VOR Federal Airway V322 Is Amended to Delete
CONCORD, NH VOR/DME | GRUMP, NH WP | 4000
GRUMP, NH WP | *NOTTY, NH WP | 5000
*6000—MCA NOTTY, NH WP, N BND
NOTTY, NH WP | WYLIE, NH WP | *7000
*5600—MOCA
§ 95.6335 VOR Federal Airway V335 Is Amended to Delete
ST LOUIS, MO VORTAC | ARNOL, IL FIX | 2800
ARNOL, IL FIX | *GLASS, MO FIX | **3000
*4500—MRA
**2100—MOCA
GLASS, MO FIX | NIKEL, IL FIX | *4500
*2200—MOCA
*3500—GNSS MEA
NIKEL, IL FIX | MARION, IL VOR/DME | 2400
§ 95.6352 VOR Federal Airway V352 Is Amended to Delete
PATTA, ME WP | HOULTON, ME VOR/DME | 6500
§ 95.6428 VOR Federal Airway V428 Is Amended to Delete
GEORGETOWN, NY VORTAC | EATEN, NY FIX | 4000
EATEN, NY FIX | UTICA, NY VORTAC | 3500
§ 95.6429 VOR Federal Airway V429 Is Amended to Delete
MARION, IL VOR/DME | BIBLE GROVE, IL VORTAC | *5000
*2100—MOCA
*2300—GNSS MEA
§ 95.6471 VOR Federal Airway V471 Is Amended to Delete
MILLINOCKET, ME VOR/DME | HOULTON, ME VOR/DME | *2600
*2000—MOCA
HOULTON, ME VOR/DME | U.S. CANADIAN BORDER | *2600
*2100—MOCA
§ 95.6490 VOR Federal Airway V490 Is Amended to Delete
UTICA, NY VORTAC | GALWA, NY FIX | *4000
*3300—MOCA
GALWA, NY FIX | CAMBRIDGE, NY VOR/DME | *4000
*3300—MOCA
CAMBRIDGE, NY VOR/DME | STRUM, NH WP | *6000
*5300—MOCA
STRUM, NH WP | DUBIN, NH WP | 5000
DUBIN, NH WP | LURCH, NH WP | 4000
LURCH, NH WP | *MUGGY, NH FIX | 4000
*4000—MCA MUGGY, NH FIX, W BND
MUGGY, NH FIX | MANCHESTER, NH VOR/DME | 3000
§ 95.6540 VOR Federal Airway V540 Is Amended to Read in Part
CUNNINGHAM, KY VOR/DME | TAMMS, IL FIX.
| NW BND | 3500
| SE BND | 2800
TAMMS, IL FIX | FARMINGTON, MO VORTAC | 3500
§ 95.6542 VOR Federal Airway V542 Is Amended to Delete
ELMIRA, NY VOR/DME | BINGHAMTON, NY VOR/DME | 3500
BINGHAMTON, NY VOR/DME | OXFOR, NY WP | 3500
OXFOR, NY WP | ROCKDALE, NY VOR/DME | 4000
§ 95.6480 ALASKA VOR Federal Airway V480 Is Amended to Read in Part
ZESKA, AK FIX | BETHEL, AK VORTAC.
| NE BND | *2000
| SW BND | *10000
*1500—MOCA
BETHEL, AK VORTAC | CABOT, AK FIX.
| NE BND | *8000
| SW BND | *2000
*1400—MOCA
CABOT, AK FIX | ANIAK, AK FIX.
| NE BND | *9000
| SW BND | *8000
*2400—MOCA
ANIAK, AK FIX | JOANY, AK FIX | #*9000
*5600—MOCA
#MEA IS ESTABLISHED WITH A GAP IN NAVIGATION SIGNAL COVERAGE
JOANY, AK FIX | MC GRATH, AK VORTAC.
| NE BND | *6000
| SW BND | *9000
*4700—MOCA
NENANA, AK VORTAC | FAIRBANKS, AK VORTAC | *4000
*3000—MOCA

From | To | MEA | MAA
§ 95.7001 Jet Routes
§ 95.7091 Jet Route J91 Is Amended to Delete
VOLUNTEER, TN VORTAC | HENDERSON, WV VORTAC | 18000 | 45000
§ 95.7134 Jet Route J134 Is Amended to Delete
FALMOUTH, KY VOR/DME | HENDERSON, WV VORTAC | 18000 | 45000
HENDERSON, WV VORTAC | LINDEN, VA VORTAC | 18000 | 45000

Airway segment: From | Airway segment: To | Changeover points: Distance | Changeover points: From
§ 95.8003 VOR Federal Airway Changeover Point
Alaska V480 Is Amended to Modify Changeover Point
BETHEL, AK VORTAC | MC GRATH, AK VORTAC | 117 | BETHEL.
V2 Is Amended to Delete Changeover Point
BUFFALO, NY VOR/DME | ROCHESTER, NY VOR/DME | 45 | BUFFALO.
V45 Is Amended to Delete Changeover Point
HENDERSON, WV VORTAC | APPLETON, OH VORTAC | 59 | HENDERSON.
V203 Is Amended to Delete Changeover Point
ALBANY, NY VORTAC | SARANAC LAKE, NY VOR/DME | 60 | ALBANY.
V273 Is Amended to Delete Changeover Point
HANCOCK, NY VOR/DME | GEORGETOWN, NY VORTAC | 31 | HANCOCK.
V282 Is Amended to Delete Changeover Point
SARANAC LAKE, NY VOR/DME | MONTREAL, CA VOR/DME | 37 | SARANAC LAKE.
V490 Is Amended to Delete Changeover Point
CAMBRIDGE, NY VOR/DME | MANCHESTER, NH VOR/DME | 37 | CAMBRIDGE.
J91 Is Amended to Delete Changeover Point
VOLUNTEER, TN VORTAC | HENDERSON, WV VORTAC | 135 | VOLUNTEER.
J134 Is Amended to Delete Changeover Point
HENDERSON, WV VORTAC | LINDEN, VA VORTAC | 133 | HENDERSON.

[FR Doc. 2021-10972 Filed 5-25-21; 8:45 a.m.]

BILLING CODE 4910-13-P